DEPARTMENT OF THE INTERIOR

Minerals Management Service (MMS)

Outer Continental Shelf (OCS) Policy Committee; Notice and Agenda for Meeting

AGENCY: Minerals Management Service, Interior.

ACTION: Notice of Meeting.

SUMMARY: The OCS Policy Committee will meet at the Washington Dulles Crowne Plaza Hotel in Herndon, Virginia.

DATES: Tuesday, December 9, 2008, 8:30 a.m. to 5 p.m. and Wednesday, December 10, 2008, from 8:15 a.m. to 12 p.m.

ADDRESSES: The Washington Dulles Crowne Plaza Hotel, 2200 Centreville Road, telephone (703) 471-6700.

FOR FURTHER INFORMATION CONTACT: Ms. Jeryne Bryant at Minerals Management Service, 381 Elden Street, Mail Stop 4001, Herndon, Virginia 20170-4187. She can be reached by telephone at (703) 787-1211 or by electronic mail at jeryne.bryant@mms.gov.

SUPPLEMENTARY INFORMATION: The OCS Policy Committee represents the collective viewpoint of coastal states, local government, environmental community, industry and other parties involved with the OCS Program. It provides policy advice to the Secretary of the Interior through the Director of the MMS on all aspects of leasing, exploration, development, and protection of OCS resources.

The agenda for Tuesday, December 9 will cover the following principal subjects:

MMS Environmental Studies. This presentation will provide an update on environmental studies awarded by the MMS in fiscal year (FY) 2008 and those proposed for FY 2009.

OCS Scientific Committee Update. This presentation will address current activities of the OCS Scientific Committee and its subcommittees.

Supply of Energy Issue. This presentation will address the current and future domestic energy supply, unconventionals onshore and deepwater potential.

5-Year Program 2010-2015. This presentation will address the new 5-Year OCS Oil and Gas Leasing Program for 2010 to 2015. The OCS Policy Committee's 5-Year OCS Oil and Gas Leasing Program Subcommittee will also report on its activities and future plans.

Revenue Sharing and Former Moratoria Areas and Gulf of Mexico Energy Security Act Eastern Gulf of Mexico Study Working Group. The OCS Policy Committee's newly established Working Group will report on its activities and future plans.

What Should OCS Policy Be Without Moratoria. This panel presentation will address the direction of OCS policy if there were no moratoria followed by open Committee discussion.

U.S. Effort To Define Its Extended Continental Shelf (ECS). This presentation will provide an update on the efforts to date to define the ECS and related issues.

The agenda for Wednesday, December 10 will cover the following principal subjects:

MMS Regional Issues. The Regional Directors will highlight activities off the California and Alaska coasts and the Gulf of Mexico.

State Members' Round Table Discussion of Offshore Energy Issues. State representatives to the OCS Policy Committee will discuss offshore energy development (conventional and alternative) issues from the perspective of their respective states. This session will provide Committee members, MMS representatives, and other participants with a better and more comprehensive understanding of the various issues as perceived by the states and provide an update on their activities.

OCS Alternative Energy Status. This presentation will provide an update on the MMS's OCS Alternative Energy Program that has been authorized to manage access and balance competing uses of the OCS while ensuring appropriate environmental safeguards. The OCS Policy Committee's OCS Alternative Energy Subcommittee will also report on its activities and future plans.

Hard Minerals Subcommittee. This presentation will provide an update on the OCS Policy Committee's Hard Minerals Subcommittee activities and future plans.

Committee Forum. Time has been set aside for the Committee members to have an open discussion on topics of interest in their respective fields.

The meeting is open to the public. Approximately 100 visitors can be accommodated on a first-come-first-served basis.

Upon request, interested parties may make oral or written presentations to the OCS Policy Committee. Such requests should be made no later than December 3, 2008, to Jeryne Bryant. Requests to make oral statements should be accompanied by a summary of the statement to be made. Please see FOR FURTHER INFORMATION CONTACT section for address and telephone number.

Minutes of the OCS Policy Committee meeting will be available for public inspection and copying at the MMS in Herndon, Virginia.

Authority: Federal Advisory Committee Act, Public Law 92-463, 5 U.S.C. Appendix 1, and the Office of Management and Budget's Circular No. A-63, Revised.

Dated: November 17, 2008.
Chris C. Oynes,
Associate Director for Offshore Energy and Minerals Management.

[FR Doc. E8-27766 Filed 11-20-08; 8:45 am]

BILLING CODE 4310-MR-P